DEPARTMENT OF ENERGY

Federal Energy Regulatory Commission

[Docket No. RM01-12-000 et al.]

Notice of Technical Conference

February 5, 2002.

In the matter of: RT01-2-001, RT01-2-002, RT01-2-003, RT01-10-000, RT01-15-000, RT01-34-000, RT01-35-000, RT01-67-000, RT01-74-000, RT01-75-000, RT01-77-000, RT01-85-000, RT01-86-000, RT01-86-001, RT01-86-002, RT01-87-000, RT01-88-000, RT01-94-000, RT01-95-000, RT01-95-001, RT01-95-002, RT01-98-000, RT01-99-000, RT01-99-001, RT01-99-002, RT01-99-003, RT01-100-000, RT02-1-000, EL02-9-000; RT01-2-001, RT01-2-002, RT01-2-003, RT01-10-000, RT01-15-000, RT01-34-000, RT01-35-000, RT01-67-000, RT01-74-000, RT01-75-000, RT01-77-000, RT01-85-000, RT01-86-000, RT01-86-001, RT01-86-002, RT01-87-000, RT01-88-000, RT01-94-000, RT01-95-000, RT01-95-001, RT01-05-002, RT01-98-000, RT01-99-000, RT01-99-001, RT01-99-002, RT01-99-003, RT01-100-000, RT02-1-000, RT02-9-000; PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company, UGI Utilities Inc., Allegheny Power, Avista Corporation, Montana Power Company, Nevada Power Company, Portland General Electric Company, Puget Sound Energy, Inc., Sierra Pacific Power Company, Southwest Power Pool, Inc., Avista Corporation, Bonneville Power Administration, Idaho Power Company, Montana Power Company, Nevada Power Company, PacifiCorp, Portland General Electric Company, Puget Sound Energy, Inc., Sierra Pacific Power Company, GridFlorida LLC, Florida Power & Light Company, Florida Power Corporation, Tampa Electric Company, Carolina Power & Light Company, Duke Energy Corporation, South Carolina Electric & Gas Company, GridSouth Transco, LLC, Entergy Services, Inc., Southern Company Services, Inc., California Independent System Operator Corporation, Bangor Hydro-Electric Company, Central Maine Power Company, National Grid USA, Northeast Utilities Service Company, The United Illuminating Company, Vermont Electric Power Company, ISO New England Inc., Midwest Independent System Operator, Alliance Companies, NSTAR Services Company, New York Independent System Operator, Inc., Central Hudson Gas & Electric Corporation, Consolidated Edison Company of New York, Inc., Niagara Mohawk Power Corporation, New York State Electric & Gas Corporation, Orange & Rockland Utilities, Inc., Rochester Gas & Electric Corporation, PJM Interconnection, L.L.C., Regional Transmission Organizations, Regional Transmission Organizations, Arizona Public Service Company, El Paso Electric Company, Public Service Company of New Mexico, Tucson Electric Power Company, WestConnect RTO, LLC, PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company, UGI Utilities Inc., Allegheny Power, Avista Corporation, Montana Power Company, Nevada Power Company, Portland General Electric Company, Puget Sound Energy, Inc., Sierra Pacific Power Company, Southwest Power Pool, Inc., Avista Corporation, Bonneville Power Administration, Idaho Power Company, Montana Power Company, Nevada Power Company, PacifiCorp, Portland General Electric Company, Puget Sound Energy, Inc., Sierra Pacific Power Company, GridFlorida LLC, Florida Power & Light Company, Florida Power Corporation, Tampa Electric Company, Carolina Power & Light Company, Duke Energy Corporation, South Carolina Electric & Gas Company, GridSouth Transco, LLC, Entergy Services, Inc., Southern Company Services, Inc., California Independent System Operator Corporation, Bangor Hydro-Electric Company, Central Maine Power Company, National Grid USA, Northeast Utilities Service Company, The United Illuminating Company, Vermont Electric Power Company, ISO New England Inc., Midwest Independent System Operator, Alliance Companies, NSTAR Services Company, New York Independent System Operator, Inc., Central Hudson Gas & Electric Corporation, Consolidated Edison Company of New York, Inc., Niagara Mohawk Power Corporation, New York State Electric & Gas Corporation, Orange & Rockland Utilities, Inc., Rochester Gas & Electric Corporation, PJM Interconnection, L.L.C., Regional Transmission Organizations, Regional Transmission Organizations, Arizona Public Service Company, El Paso Electric Company, Public Service Company of New Mexico, Tucson Electric Power Company, WestConnect RTO, LLC.

Take notice that a technical conference will be held on February 19, 2002, to discuss the allocation of regional transmission organization (RTO) characteristics and functions between separate organizations within an RTO region.¹ Participants also may address the allocation of responsibility for performing other wholesale market functions (e.g. administration of a balancing market and security coordination) at the conference.² Members of the Commission may attend and participate in the discussions. All interested persons may attend.

¹ The RTO characteristics are: (1) Independence; (2) scope and regional configuration; (3) operational authority; and (4) short-term reliability. RTO functions include: (1) tariff administration and design; (2) congestion management; (3) parallel path flow; (4) ancillary services; (5) OASIS, total transmission capacity and available transmission capacity; (6) market monitoring; (7) planning and expansion; and (8) interregional coordination. See Regional Transmission Organizations, Order No. 2000, FERC Stats. And Regs. 31,089 (1999), order on reh'g, Order No. 2000-A, FERC Stats. And Regs. 31,092 (2000), aff'd, Public Utility District No. 1 of Snohomish County, Washington v. FERC, 272 F.3d 607 (D.C. Cir. 2001).

² See Order Providing Guidance on Continued Processing of RTO Filings, 97 FERC ¶ 61,146 at 61,633 (2001).

The conference will be held from approximately 9:00 a.m. to 5:00 p.m., at the offices of the Federal Energy Regulatory Commission, 888 First Street, NE, Washington, DC, in the Commission Meeting Room on the second floor. The Commission is inviting selected panelists on these topics to participate in this conference; it is not at this time entertaining requests to make presentations. There will be an opportunity for non-panelists to submit comments in the above dockets.

The Capitol Connection broadcasts all open and special Commission meetings held at the Commission's headquarters live over the Internet, as well as via telephone. For a fee, you can receive these meetings in your office, at home, or anywhere in the world. To find out more about the Capitol Connection's live Internet, phone bridge, or satellite coverage, contact David Reininger or Julia Morelli at (703) 993-3100, or visit www.capitolconnection.gmu.edu. The Capitol Connection also offers FERC open meetings through its Washington, DC-area television service.

Those interested in obtaining transcripts of the conference will need to contact Ace Federal Reporters at (202) 347-3700 or (800) 336-6646.

Further details about the agenda and organization of the conference, the panelists and submission of comments will be specified in a subsequent notice. Other questions about the conference program should be directed to: Diane Bernier, Federal Energy Regulatory Commission, Office of Markets, Tariffs and Rates, 888 First Street, NE, Washington, DC 20426, (202) 219-2886.

Magalie R. Salas,
Secretary.

[FR Doc. 02-3334 Filed 2-11-02; 8:45 am]

BILLING CODE 6717-01-P